DEPARTMENT OF JUSTICE

Notice of Lodging of Consent Decree Pursuant to the Comprehensive Environmental Response, Compensation and Liability Act

In accordance with Departmental policy, 28 CFR 50.7, notice is hereby given that a proposed consent decree in United States v. Vafadari, et al., No. 96-143 PHX EHC (D. Ariz.) was lodged on September 7, 2001, with the United States District Court for the District of Arizona. The consent decree settles claims under Sections 104, 107 and 113 of the Comprehensive Environmental Response, Compensation, and Liability Act (“CERCLA”), 42 U.S.C. 9604, 9607 and 9613, for past and future response costs incurred and to be incurred in connection with the DCE Circuits Site (“DCE Site”), a subsite of the Indian Bend Wash Superfund NPL Site (the “Indian Bend Wash site” or the “IBW site”), on the eastern and southern borders of Phoenix, Arizona. The consent decree will also resolve the United States claims pursuant to Section 3304 and 3306 of the Federal Debt Collection Procedures Act of 1990, 28 U.S.C. 3304 and 3306 with regard to certain allegedly fraudulent conveyances of real property.

In 1998, the United States and Defendants entered into a Consent Decree providing that Defendants Rudi Vafadari (individually and as trustee of the Vafco Trust), Vafoc Trust, Arden Properties, Inc., Sohrab and Parvin Najmi would pay $328,500 to the United States in installments. Mr. Vafadari was also to pay a civil penalty of $10,000. On September 28, 1998, National Mortgage Co., a nonparty, sued Settling Defendants Arden Properties, Inc. and Vafadai in Arizona Superior Court to foreclose on a mortgage on the Site. See National Mortgage Co. v. Vafadari, et al., No. CV98-17608 (Az. Sup. Ct. filed Sept. 28, 1998.). On September 29, 1998m Arden Properties, Inc. filed a petition for bankruptcy under Chapter 11 of the Bankruptcy Code. See In re Arden Properties, Inc., No. 98-12312-PHX-RGM (Bankr. D. Ariz.). Pursuant to Arden Properties, Inc.'s plan of reorganization, Arden was to pay National Mortgage $480,000 in installments over fifteen years and the United States the original Consent Decree amount of $338,500 in installments over eight years. Due to Arden Properties' bankruptcy and the automatic stay, the United States never sought entry of the first decree.

The proposed consent decree replaces the previously lodged decree. As part of the settlement, National Mortgage has dismissed its bankruptcy appeal, and the plan of reorganization has become final. Thus, the United States will receive the original settlement amount under the plan of reorganization. In addition, however, the United States will also receive an additional $15,000 over four years from all defendants (other than Arden Properties) without interest. Moreover, Mr. Vafadari will pay an additional $5,000 to settle the civil penalty claims against him.

The Department of Justice will receive, for a period of thirty (30) days from the date of this publication, comments relating to the proposed consent decree. Comments should be addressed to the Assistant Attorney General for the Environmental and Natural Resources Division, Department of Justice, Washington, D.C. 20530, and should refer to United States v. Vafadari, et al., DOJ Ref.# 90-11-2-413C.

The proposed consent decree may be examined at the office of the United States Attorney, District of Arizona, Room 4000, 230 First Avenue, Phoenix, Arizona and the Region 9 Office of the Environmental Protection Agency, 75 Hawthorne Street, San Francisco, California. A copy of the proposed consent decree may be obtained by mail from the Consent Decree Library, P.O. Box 7611, Washington, D.C. 20044-7611. In requesting a copy please refer to the referenced case and enclose a check in the amount of $5.75 (25 cents per page reproduction costs), payable to the Consent Decree Library.

Ellen M. Mahan,
Assistant Section Chief, Environmental Enforcement Section, Environment and Natural Resources Division.

[FR Doc. 01-24491 Filed 9-28-01; 8:45 am]

BILLING CODE 4410-15-M